DEPARTMENT OF EDUCATION

Discretionary Grant Programs

AGENCY: Department of Education.

ACTION: Notice of intent to use certain discretionary grant priorities in fiscal year 2009.

SUMMARY: The Secretary proposes to continue the use in fiscal year (FY) 2009 of priorities that the Department of Education (Department) previously established for use in any discretionary grant program competition in FY 2007 and FY 2008. We take this action in order to continue to focus Federal financial assistance on expanding the number of programs and projects Department-wide that support activities in areas of greatest educational need. We are proposing to continue the use of the priorities on a Department-wide basis, so that Department offices can use one or more of these priorities in any discretionary grant competition, as appropriate.

DATES: We must receive your comments on or before September 26, 2008.

ADDRESSES: Address all comments about this proposed action to Margo K. Anderson, U.S. Department of Education, 400 Maryland Avenue, SW., room 4W311, Washington, DC 20202-5910. If you prefer to send your comments through the Internet, use the following address: comments@ed.gov.

You must include the term “FY 2009 Use of Department-wide Priorities” in the subject line of your electronic message.

FOR FURTHER INFORMATION CONTACT: Margo Anderson. Telephone: (202) 205-3010 or via Internet at Margo.Anderson@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation to Comment

We invite you to submit comments regarding this proposed action.

We invite you to assist us in complying with the specific requirements of Executive Order 12866 and its overall requirement of reducing regulatory burden that might result from this proposed action. Please let us know of any further opportunities we should take to reduce potential costs or increase potential benefits while preserving the effective and efficient administration of the Department's programs.

During and after the comment period, you may inspect all public comments about this proposed action in room 4W333, 400 Maryland Avenue, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed action. If you want to schedule an appointment for this type of aid, please contact the person listed under FOR FURTHER INFORMATION CONTACT.

General

On October 11, 2006 (71 FR 60046), the Department established the following menu of priorities for discretionary grant programs to help support rigorous instruction, high standards, and accountability for results:

1. Mathematics.

2. Science.

3. Critical-Need Languages.

4. Secondary Schools.

5. Professional Development for Secondary School Teachers.

6. School Districts with Schools in Need of Improvement, Corrective Action, or Restructuring.

7. Student Achievement Data.

8. State Data Systems.

These priorities were available for use in FY 2007 and FY 2008. The Department believes that these priorities are still relevant to the Nation's educational needs and is proposing to continue their use in FY 2009.

These priorities were designed to respond to the fact that America's rapidly changing economy requires an educational system that produces high school graduates with the skills needed to be successful in postsecondary education and the workforce. In addition to improving the academic achievement of students in mathematics and science, the content-specific priorities established for FY 2007 and FY 2008 were designed to (a) expand the number of Americans mastering foreign languages critical to national security and to our participation in the global economy; (b) help high schools develop a larger pool of technically adept and numerically literate Americans; a continual supply of highly trained mathematicians, scientists, and engineers; and more students with higher levels of proficiency in critical-need languages; and (c) enhance high-quality professional development for secondary school teachers to help ensure that these teachers have the content knowledge and expertise required to improve student achievement. Another priority was designed to focus assistance on schools in need of improvement, corrective action, or restructuring. We believe that extending the use of these priorities will continue progress in these areas.

In addition, the Secretary established two priorities for use in FY 2007 and FY 2008 to ensure that data are available to inform decision-making. One of these priorities focuses resources on collecting data to assess the effects of projects on the academic achievement of student participants relative to appropriate comparison or control groups. Continued use of this priority will enable the Department to fund interventions that are designed to collect the best available data to determine the impact of the proposed interventions on student achievement and to inform future improvement efforts. The second focuses resources on projects to help educators use information from State data systems to improve student achievement or other appropriate outcomes.

Discussion of Proposed Action

We will announce the final action in a notice in the Federal Register. We will determine the final action after considering public comments on the proposal in this notice and other information available to the Department. This notice does not preclude the Secretary from proposing other actions, including the use of additional priorities, subject to meeting applicable rulemaking requirements.

Note: This notice does not solicit applications. If we choose to use one or more of the priorities referenced in this notice in FY 2009, we will invite applications for new awards under the applicable program through a notice in the Federal Register. When inviting applications we designate the priorities as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive preference priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Proposed Action

The Secretary proposes to continue to use certain priorities for discretionary grant competitions in FY 2009, as appropriate. The Secretary intends that these priorities, which were originally established for use in FY 2007 and FY 2008, will allow the Department to continue to focus limited Federal resources on areas of greatest educational need in FY 2009. The Secretary recognizes that some of the priorities will not be appropriate for particular programs.

The priorities the Secretary proposes to make available for use by the Department in discretionary grant competitions in FY 2009 are as follows:

Priority 1—Mathematics. Projects that support activities to enable students to achieve proficiency or advanced proficiency in mathematics.

Priority 2—Science. Projects that support activities to enable students to achieve proficiency or advanced proficiency in science.

Priority 3—Critical-Need Languages. Projects that support activities to enable students to achieve proficiency or advanced proficiency in one or more of the following less commonly taught languages: Arabic, Chinese, Korean, Japanese, Russian, and languages in the Indic, Iranian, and Turkic language families.

Priority 4—Secondary Schools. Projects that support activities and interventions aimed at improving the academic achievement of secondary school students who are at greatest risk of not meeting challenging State academic standards and not completing high school.

Priority 5—Professional Development for Secondary School Teachers. Projects that support high-quality professional development for secondary school teachers to help these teachers improve student academic achievement.

Priority 6—School Districts with Schools in Need of Improvement, Corrective Action, or Restructuring. Projects that help school districts implement academic and structural interventions in schools that have been identified for improvement, corrective action, or restructuring under the Elementary and Secondary Education Act of 1965, as amended by the No Child Left Behind Act of 2001.

Priority 7—Student Achievement Data. Projects that collect pre- and post-intervention test data to assess the effect of the projects on the academic achievement of student participants relative to appropriate comparison or control groups.

Priority 8—State Data Systems. Projects that help educators use information from State data systems to improve student achievement or other appropriate outcomes.

Executive Order 12866

This notice has been reviewed in accordance with Executive Order 12866. Under the terms of the order, we have assessed the potential costs and benefits of this regulatory action.

The potential costs associated with this notice are those resulting from statutory requirements and those we have determined as necessary for administering the Department's discretionary grant programs effectively and efficiently.

In assessing the potential costs and benefits—both quantitative and qualitative—of this notice we have determined that the benefits of the proposed action justify the costs.

We have also determined that this regulatory action does not unduly interfere with State, local, and tribal governments in the exercise of their governmental functions.

Executive Order 12372

Some of the programs affected by this notice are subject to Executive Order 12372 and the regulations in 34 CFR part 79. One of the objectives of the Executive order is to foster an intergovernmental partnership and a strengthened federalism. The Executive order relies on processes developed by State and local governments for coordination and review of proposed Federal financial assistance.

This document provides early notification of our specific plans and actions for these programs.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number does not apply.)

Program Authority: 20 U.S.C. 1221e-3; 20 U.S.C. 6301 et seq.

Dated: August 22, 2008.
Margaret Spellings,
Secretary of Education.

[FR Doc. E8-19893 Filed 8-26-08; 8:45 am]

BILLING CODE 4000-01-P